DEPARTMENT OF COMMERCE

International Trade Administration

[C-570-955]

Certain Magnesia Carbon Bricks From the People's Republic of China: Final Results of the Expedited Second Five-Year Sunset Review of the Countervailing Duty Order

AGENCY: Enforcement and Compliance, International Trade Administration, Department of Commerce.

SUMMARY: As a result of this sunset review, the Department of Commerce (Commerce) finds that revocation of the countervailing duty (CVD) order on certain magnesia carbon bricks (bricks) from the People's Republic of China (China) would be likely to lead to continuation or recurrence of countervailable subsidies at the levels indicated in the “Final Results of Review” section of this notice.

DATES: Applicable May 10, 2021.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On September 21, 2010, Commerce published its CVD order on bricks from China in the Federal Register.¹ On January 4, 2021, Commerce published the notice of initiation of the second sunset review of the Order, pursuant to section 751(c) of the Tariff Act of 1930, as amended (the Act).² Commerce received a notice of intent to participate from Magnesia Carbon Bricks Fair Trade Committee (the Committee), an ad hoc association of U.S. producers of magnesia carbon bricks, within the deadline specified in 19 CFR 351.218(d)(1)(i).³ The Committee claimed interested party status under section 771(9)(E) of the Act, as a trade or business association a majority of whose members manufacture, produce, or wholesale a domestic like product in the United States and stated that each member of the Committee is a manufacturer of the domestic like product and thus, are domestic interested parties pursuant to section 771(9)(C) of the Act.⁴

¹ See Certain Magnesia Carbon Bricks from the People's Republic of China: Countervailing Duty Order, 75 FR 57442 (September 21, 2010) (Order).

² See Initiation of Five-Year (Sunset) Review, 86 FR 60 (January 4, 2021).

³ See Committee's Letter, “Second Five-Year (“Sunset”) Review the Countervailing Duty Order On Magnesia Carbon Bricks From The People's Republic of China: Domestic Industry's Notice Of Intent To Participate In Sunset Review,” dated January 14, 2021.

⁴ Id.

Commerce received a substantive response from the Committee ⁵ within the 30-day deadline specified in 19 CFR 351.218(d)(3)(i). We received no substantive response from any other domestic or interested parties in this proceeding, nor was a hearing requested.

⁵ See Committee's Letter, “Second Five-Year (Sunset) Review of the Countervailing Duty Order On Magnesia Carbon Bricks From The People's Republic Of China: Domestic Industry's Substantive Response,” dated February 2, 2021.

On February 22, 2021, Commerce notified the U.S. International Trade Commission (ITC) that it did not receive an adequate substantive response from respondent interested parties.⁶ As a result, pursuant to section 751(c)(3)(B) of the Act and 19 CFR 351.218(e)(1)(ii)(C)(2), Commerce conducted an expedited (120-day) sunset review of this Order.

⁶ See Commerce's Letter, “Sunset Reviews Initiated on January 4, 2021,” dated February 22, 2021.

Scope of the Order

The merchandise subject to this Order includes certain chemically-bonded (resin or pitch), magnesia carbon bricks. Certain magnesia carbon bricks that are the subject of this order are currently classifiable under subheadings 6902.10.1000, 6902.10.5000, 6815.91.0000, 6815.99.2000 and 6815.99.4000 of the Harmonized Tariff Schedule of the United States (HTSUS). Although the HTSUS subheading is provided for convenience and customs purposes, the written description of the merchandise covered by the scope of the Order is dispositive. For a complete description of the scope of the Order, see the accompanying Issues and Decision Memorandum.⁷

⁷ See Memorandum, “Issues and Decision Memorandum for the Expedited Second Sunset Review of the Countervailing Duty Order on Magnesia Carbon Bricks from the People's Republic of China,” dated concurrently with, and hereby adopted by, this notice (Issues and Decision Memorandum).

Analysis of Comments Received

All issues raised in this sunset review are addressed in the Issues and Decision Memorandum. A list of topics discussed in the Issues and Decision Memorandum is included as an appendix to this notice. The Issues and Decision Memorandum is a public document and is on file electronically via the Enforcement and Compliance's Antidumping and Countervailing Duty Centralized Electronic Service System (ACCESS). ACCESS is available to registered users at http://access.trade.gov. In addition, a complete version of the Issues and Decision Memorandum can be accessed directly on the internet at http://enforcement.trade.gov/frn/.

Final Results of Sunset Review

Pursuant to sections 751(c)(1) and 752(b) of the Act, we determine that revocation of the CVD order on bricks from China would be likely to lead to continuation or recurrence of countervailable subsidies at the following rates:

Manufacturers/producers/exporters | Net countervailable subsidy (percent)
RHI Refractories Liaoning Co., Ltd. (RHIL), RHI Refractories (Dailian) Co., Ltd. (RHID), and Liaoning RHI Jinding Magnesia Co., Ltd. (RHIJ) (collectively, RHI) | 3.00
Liaoning Mayerton Refractories (LMR) and Dalian Mayerton Refractories Co. Ltd. (DMR) (collectively, Mayerton) | 253.87
All Others | 3.00

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218.

Dated: May 3, 2021.
Christian Marsh,
Acting Assistant Secretary for Enforcement and Compliance.

Appendix

List of Topics Discussed in the Issues and Decision Memorandum

I. Summary

II. Background

III. History of the Order

IV. Scope of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2021-09802 Filed 5-7-21; 8:45 am]

BILLING CODE 3510-DS-P